DEPARTMENT OF DEFENSE

Defense Logistics Agency

Privacy Act of 1974; Computer Matching Program

AGENCY: Defense Manpower Data Center, Defense Logistics Agency, DOD.

ACTION: Notice of a computer matching program.

SUMMARY: Subsection (e)(12) of the Privacy Act of 1974, as amended, (5 U.S.C. 552a) requires agencies to publish advance notice of any proposed or revised computer matching program by the matching agency for public comment. The Department of Defense (DoD), as the matching agency under the Privacy Act, is hereby giving constructive notice in lieu of direct notice to the record subjects of a computer matching program between the Department of the Treasury and DoD that their records are being matched by computer. The record subjects are delinquent debtors of the Bureau of the Public Debt., Department of the Treasury, who are current or former Federal employees receiving any Federal salary or benefit payments and who are indebted or delinquent in their repayment of debts to the United States Government under certain programs administered by the Public Debt.

DATES: This proposed action will become effective August 20, 2001 and matching may commence unless changes to the matching program are required due to public comments or by Congressional or by Office of Management and Budget objections. Any public comment must be received before the effective date.

ADDRESSES: Any interested party may submit written comments to the Director, Defense Privacy Office, 1941 Jefferson Davis Highway, Suite 920, Arlington, VA 22202-4502.

FOR FURTHER INFORMATION CONTACT: Mr. Vahan Moushegian, Jr. at (703) 607-2943.

SUPPLEMENTARY INFORMATION: Pursuant to subsection (o) of the Privacy Act of 1974, as amended, (5 U.S.C. 552a), the Department of the Treasury and the Defense Manpower Data Center (DMDC) have concluded an agreement to conduct a computer matching program. The purpose of the match is to exchange personal data between the agencies for debt collection. The match will yield the identity and location of the debtors within the Federal Government so that the Bureau can pursue recoupment of the debt by voluntary payment or by administrative or salary offset procedures. Computer matching appeared to be the most efficient and effective manner to accomplish this task with the least amount of intrusion of personal privacy of the individuals concerned. It was therefore concluded and agreed upon that computer matching would be the best and least obtrusive manner and choice for accomplishing this requirement.

A copy of the computer matching agreement between the Department of the Treasury and DMDC is available to the public upon request. Requests should be submitted to the address caption above or to the Debt Collection Officer, Bureau of Public Debt, Hintgen Building, Room 114, P.O. Box 1328, Parkersburg, WV 26106-1328.

Set forth below is the notice of the establishment of the computer matching program required by paragraph 6.c. of the Office of Management and Budget Guidelines on computer matching published on June 19, 1989, at 54 FR 25818.

The matching agreement, as required by 5 U.S.C. 552a(r) of the Privacy Act, and an advance copy of this notice was submitted on July 10, 2001, to the House Committee on Government Reform, the Senate Committee on Governmental Affairs, and the Administrator of the Office of Information and Regulatory Affairs, Office of Management and Budget pursuant to paragraph 4d of Appendix I to OMB Circular No. A-130, ‘Federal Agency Responsibilities for Maintaining Records about Individuals,’ dated February 8, 1996 (February 20, 1996, 61 FR 6427).

Dated: July 13, 2001.
L.M. Bynum,
Alternate OSD Federal Register Liaison Officer, Department of Defense.

COMPUTER MATCHING PROGRAM BETWEEN THE DEPARTMENT OF THE TREASURY/BUREAU OF PUBLIC DEBT, AND THE DEFENSE MANPOWER DATA CENTER, DEPARTMENT OF DEFENSE FOR DEBT COLLECTION

A. Participating Agencies:

Participants in this computer matching program are the Bureau of Public Debt, Department of the Treasury and the Defense Manpower Data Center (DMDC), Department of Defense (DoD). The Bureau of Public Debt is the source agency, i.e., the agency disclosing the records for the purpose of the match. DMDC is the specific recipient or matching agency, i.e., the agency that actually performs the computer matching.

B. Purpose of the Match:

The purpose of the match is to identify and locate any matched Federal personnel, employed, serving or retired, who owe delinquent debts to the Federal Government under certain programs administered by the Bureau of Public Debt. The Bureau will use this information to initiate independent collection of those debts under the provisions of the Debt Collection Act of 1982, as amended, when voluntary payment is not forthcoming. These collection efforts will include requests by the Bureau of the military service/employing agency in the case of military personnel (either active, reserve, or retired) and current non-postal civilian employees, and to the Office of Personnel Management in the case of retired non-postal civilian employees to apply administrative and/or salary offset procedures until such time as the obligation is paid in full.

C. Authority for Conducting the Match:

The legal authority for conducting the matching program is contained in the Debt Collection Act of 1982 (Pub. L. 97-365), as amended by the Debt Collection Improvement Act of 1996 (Pub. L. 104-134, section 31001); 31 U.S.C. chapter 37, subchapter I (General) and subchapter II (Claims of the United States Government); 31 U.S.C. 3711, Collection and Compromise; 31 U.S.C. 3716, Administrative Offset; 5 U.S.C. 5514, Installment Deduction for Indebtedness (Salary Offset); 10 U.S.C. 135, Under Secretary of Defense (Comptroller); Section 101(1) of Executive order 12731; 31 CFR chapter IX, Federal Claims Collection Standards; 5 CFR 550.1101-550.1108 Collection by Offset from Indebted Government Employees (OPM); 31 CFR part 5, subparts B & D (Department of Treasury).

D. records to be Matched:

The systems of records maintained by the respective agencies under the Privacy Act of 1974, as amended, from which records will be disclosed for the purpose of this computer match are as follows:

1. The Bureau of Public Debt will use personal data from the following record systems for the match:

a. Record system identified as Treasury/BPD.001, entitled ‘Human Resources and Administrative Records,’ last published in the Federal Register at 66 FR 28222, May 22, 2001.

b. Record system identified as Treasury/BPD.002, entitled ‘United States Savings-Type Securities,’ last published in the Federal Register at 66 FR 28224, May 22, 2001.

c. Record system identified as Treasury/BPD.003 entitled ‘United States Securities (other than Savings-type Securities),’ last published in the Federal Register at 66 FR 28227, May 22, 2001.

d. Record system identified as Treasury/DO.002, entitled “Treasury Integrated Management Information Systems (TIMIS),’ last published in the Federal Register at 63 FR 69719, December 17, 1998.

e. Record system identified as Treasury/DO.210, entitled ‘Treasury Integrated Financial Management and Revenue System,’ last published in the Federal Register at 63 FR 69741, December 17, 1998.

f. Record system identified as Treasury/DO.211 entitled ‘Telephone Call Detail Records,’ last published in the Federal Register at 63 FR 69743, December 17, 1998.

2. DOD will use personal data from the record system identified as S322.11 DMDC, entitled ‘Federal Creditor Agency Debt Collection Database,’ last published in the Federal Register at 64 FR 42101, August 3, 1999.

E. Description of Computer Matching Program:

The Bureau of Public Debt, as the source agency, will provide DMDC with an electronic file which contains the names of delinquent debtors in programs the Bureau administers. Upon receipt of the electronic file of debtor accounts, DMDC will perform a computer match using all nine digits of the SSN of the Bureau's file against a DMDC computer database. The DMDC database, established under an interagency agreement between DOD, OPM, OMB and the Treasury Department, consists of employment records of non-postal Federal employees and military members, active and retired. The ‘hits’ or matches will be furnished to the Bureau. The Bureau is responsible for verifying and determining that the data on the DMDC reply tape file are consistent with the Bureau's source file and for resolving any discrepancies or inconsistencies on an individual basis. The Bureau will also be responsible for making final determinations as to positive identification, amount of indebtedness and recovery efforts as a result of the match.

The electronic file provided by the Bureau of Public Debt will contain data elements of the debtor's name, SSN, internal account numbers and the total amount owed for each debtor on approximately 3400 delinquent debtors. The electronic file provided by DMDC will contain an individual's name, SSN, military service or employing agency and current work or home address.

The DMDC computer database file contains approximately 4.8 million records of active duty and retired military members, including Reserve and Guard, and approximately 3.1 million records of active and retired non-postal Federal civilian employees.

F. Inclusive Dates of the Matching Program:

This computer matching program is subject to review by the Office of Management and Budget and Congress. If the mandatory 30 day period for public comment has expired and if no objections are raised by either Congress or the Office of Management and Budget within 40 days of being notified of the proposed match, the computer matching program becomes effective and the respective agencies may begin the exchange of data at a mutually agreeable time on an annual basis. By agreement between the Department of the Treasury and DoD, the matching program will be in effect and continue for 18 months with an option to extend for 12 additional months unless one of the parties to the agreement advises the other by written request to terminate or modify the agreement.

H. Address for Receipt of Public Comments or Inquiries:

Director, Defense Privacy Office, 1941 Jefferson Davis Highway, suite 920, Arlington, VA 22202-4502. Telephone (703) 607-2943.

[FR Doc. 01-18061 Filed 7-18-01; 8:45 am]

BILLING CODE 5001-08-M